SECURITIES AND EXCHANGE COMMISSION

[File No. 500-1]

In the Matter of Pacific Gateway Exchange, Inc., Pallet Management Systems, Inc., Panaco, Inc., Paragon Financial Corp. (n/k/a NewMarket Latin America, Inc.), and Patriot Motorcycle Corp.; Order of Suspension of Trading

August 18, 2008

It appears to the Securities and Exchange Commission that there is a lack of current and accurate information concerning the securities of Pacific Gateway Exchange, Inc. because it has not filed any periodic reports since the period ended September 30, 2000.

It appears to the Securities and Exchange Commission that there is a lack of current and accurate information concerning the securities of Pallet Management Systems, Inc. because it has not filed any periodic reports since the period ended September 28, 2002.

It appears to the Securities and Exchange Commission that there is a lack of current and accurate information concerning the securities of Panaco, Inc. because it has not filed any periodic reports since the period ended March 31, 2002.

It appears to the Securities and Exchange Commission that there is a lack of current and accurate information concerning the securities of Paragon Financial Corp. (n/k/a NewMarket Latin America, Inc.) because it has not filed any periodic reports since the period ended December 31, 2005.

It appears to the Securities and Exchange Commission that there is a lack of current and accurate information concerning the securities of Patriot Motorcycle Corp. because it has not filed any periodic reports since the period ended December 31, 2005.

The Commission is of the opinion that the public interest and the protection of investors require a suspension of trading in the securities of the above-listed companies.

Therefore, it is ordered, pursuant to Section 12(k) of the Securities Exchange Act of 1934, that trading in the securities of the above-listed companies, including the debt securities of Panaco, Inc., is suspended for the period from 9:30 a.m. EDT on August 18, 2008, through 11:59 p.m. EDT on August 29, 2008.

By the Commission.
J. Lynn Taylor,
Assistant Secretary.

[FR Doc. E8-19362 Filed 8-18-08; 11:15 am]

BILLING CODE 8010-01-P